DEPARTMENT OF EDUCATION

Applications for New Awards; Centers for Independent Living—Training and Technical Assistance

AGENCY: Office of Special Education and Rehabilitative Services, Department of Education

ACTION: Notice.

Overview Information

Centers for Independent Living—Training and Technical Assistance

Notice inviting applications for new awards for fiscal year (FY) 2012.

Catalog of Federal Domestic Assistance (CFDA) Number 84.132B.

DATES:

Applications Available: April 4, 2012.

Deadline for Transmittal of Applications: May 21, 2012.

Deadline for Intergovernmental Review: July 18, 2012.

Full Text of Announcement

I. Funding Opportunity Description

Purpose of Program

The purpose of the Training and Technical Assistance grant under the Centers for Independent Living program is to provide training and technical assistance to eligible agencies, centers for independent living (CILs), and Statewide Independent Living Councils (SILCs) with respect to planning, developing, conducting, administering, and evaluating CILs.

A CIL is a consumer-controlled, community-based, cross-disability, nonresidential private nonprofit agency that is designed and operated within a local community by individuals with disabilities and that provides an array of independent living services. An eligible agency is a consumer-controlled, community-based, cross-disability, nonresidential, private nonprofit agency.

The purpose of independent living services is to maximize leadership, empowerment, independence, and productivity of individuals with significant disabilities, and to integrate these individuals into the mainstream of American society.

Each State establishes a SILC that jointly develops and signs the State Plan for Independent Living with the Designated State Unit and monitors, reviews, and evaluates the implementation of the State plan. A majority of a SILC's members are individuals with disabilities, and other members include CIL representatives and State agency representatives, as well as other appropriate individuals.

Priorities: This competition contains two absolute priorities. These priorities are from the notice of final priorities for this program, published in the Federal Register on June 22, 2007 (72 FR 34450).

Background

The Department is inviting applications for one grant to provide training and technical assistance to CILs and SILCs. This is a change from how we conducted the last competition for this grant. In 2007, we awarded separate grants to train CILs and SILCs. In response to the FY 2007 notice of proposed priorities published in the Federal Register on March 6, 2007 (72 FR 9936), the majority of the commenters expressed their preference for awarding a single training and technical assistance grant for both CILs and SILCs. These commenters stated that training CILs and SILCs together would allow them to understand each other's activities, needs, and issues and would promote effective communication and collaboration between CILs and SILCs, thus enabling them to better achieve their common goals. While CILs and SILCs have discrete statutorily-based responsibilities, commenters recognized that CILs and SILCs share the common fundamental objective to improve independent living for persons with significant disabilities.

While acknowledging the validity of the concerns expressed regarding separate grants, the Department determined in 2007 that the benefits of two grants outweighed the potential costs. The Department believed that two grants would permit grantees to focus training and technical assistance on the specific needs of CILs and SILCs separately to ensure that the unique activities and responsibilities of the CILs and SILCs were addressed. However, based on the Department's experience with the separate grants awarded in 2007, we have determined that there is no distinct advantage in administering separate grants to train and provide technical assistance to CILs and SILCs separately. The Department has determined that it can realize the benefits of using one grantee to provide the unique training and technical assistance required by CILs and SILCs and also eliminate the unnecessary duplication of costs that came with funding two grants. Therefore, the Department is returning to its practice prior to 2007 and consolidating training and technical assistance into a single grant for CILs and SILCs.

In addition to furthering program objectives, this decision maximizes the funds available for the direct provision of training and technical assistance to CILs and SILCs.

Although the number of CILs has increased as a result of funds made available under the American Recovery and Reinvestment Act of 2009, the funds appropriated for the CIL program, including the funds available for training and technical assistance for CILs and SILCs, have decreased in both FY 2011 and FY 2012. By providing training and technical assistance to CILs and SILCs through a single grant, the Department will also increase the efficiency of the training and technical assistance by reducing administrative costs.

Absolute Priorities: For FY 2012 and any subsequent year in which we make awards from the list of unfunded applicants from this competition, these priorities are absolute priorities. Under 34 CFR 75.105(c)(3) we consider only applications that meet both of these priorities.

These priorities are:

Priority 1—Centers for Independent Living (CILs) Training and Technical Assistance Center

This priority supports a CILs Training and Technical Assistance Center (CILs T&TA Center) to improve the performance of CILs by providing training and technical assistance to the CILs on the programmatic and financial aspects of their operations, including information on effective practices and proven solutions to common problems. CILs are distributed across the Nation and vary in size, stage of development, service area characteristics, and urgency of need for training and technical assistance. Therefore, the training and technical assistance provided by the CILs T&TA Center must be sensitive to this diversity and must encompass a broad range of topics.

The CILs T&TA Center must make available to all CILs a broad array of resources, training, and technical assistance. In addition, the CILs T&TA Center must address the specific needs of CILs by providing those CILs that require it with intensive, individualized, on-site training and technical assistance that meets their needs. In this regard, the CILs T&TA Center must be prepared to respond promptly to the Department's identification of particular training and technical assistance needs in general and those of particular CILs.

In coordination with the Department, the CILs T&TA Center must—

(a) Develop and provide training and technical assistance, based on the CILs' annual performance report survey and other available data, on topics related to the provision and expansion of independent living (IL) services (primarily the IL core services), fiscal and management practices, compliance with CIL standards and assurances, increased program efficiency, rigorous evaluations, and improved outcomes as measured by long-term goals and indicators;

(b) Develop and implement a plan to ensure that training and technical assistance efforts will reach all federally funded CILs and other eligible agencies;

(c) Refer CILs and eligible agencies to non-IL specific training and technical assistance available through government or non-government resources;

(d) Utilize a broad range of available, accessible technologies and methodologies to provide training and technical assistance to CILs and eligible agencies in the most effective and cost efficient manner;

(e) Provide focused, intensive, and rapid training and technical assistance to CILs identified by the Department as needing, or to CILs requesting, such assistance;

(f) Identify and develop accessible training and technical assistance materials and disseminate these materials to CILs and eligible agencies; and

(g) Coordinate and collaborate with other training and technical assistance projects funded by the Department to ensure that training and technical assistance activities are complementary and non-duplicative and that dissemination activities are effective and efficient. At a minimum, the CILs T&TA Center must coordinate with any SILC Training and Technical Assistance Center funded under the Statewide Independent Living Councils (SILCs) Training and Technical Assistance Center priority.

Priority 2—Statewide Independent Living Councils (SILCs) Training and Technical Assistance Center

This priority supports a SILCs Training and Technical Assistance Center (SILCs T&TA Center) to improve the performance of SILCs through greater access to timely and relevant training and technical assistance regarding SILC duties and operation.

In coordination with the Department, the SILCs T&TA Center must—

(a) Develop and provide training and technical assistance, based on the SILCs' annual performance report survey and other available data, on topics directly related to SILC legal responsibilities, including SILC organization and operation and the development of the State Plan for Independent Living;

(b) Develop and implement a plan to provide to all SILCs the training and technical assistance identified in paragraph (a) of this priority;

(c) Refer SILCs to non-IL specific training and technical assistance available through government or non-government resources;

(d) Utilize a broad range of available, accessible technologies and methodologies to provide training and technical assistance to SILCs in the most effective and cost efficient manner;

(e) Identify and develop accessible training and technical assistance materials and disseminate these materials to the SILCs;

(f) Provide training and technical assistance to SILCs to enhance SILC partnerships with State vocational rehabilitation agencies, CILs, and other organizations, with a focus on sharing successful operational experiences of other SILCs; and

(g) Coordinate and collaborate with other training and technical assistance projects funded by the Department to ensure that training and technical assistance activities are complementary and non-duplicative and dissemination activities are effective and efficient. At a minimum, the SILCs T&TA Center must coordinate with any CILs Training and Technical Assistance Center funded under the Centers for Independent Living (CILs) Training and Technical Assistance Center priority.

Program Authority: 29 U.S.C. 796f.

Applicable Regulations: (a) The Education Department General Administrative Regulations (EDGAR) in 34 CFR parts 74, 75, 77, 79, 80, 81, 82, 84, 85, and 86. (b) The regulations for this program in 34 CFR part 366. (c) The notice of final priorities published in the Federal Register on June 22, 2007 (72 FR 34450).

Note: The regulations in 34 CFR part 79 apply to all applicants except federally recognized Indian tribes.

Note: The regulations in 34 CFR part 86 apply to institutions of higher education only.

II. Award Information

Type of Award: Cooperative agreement.

Estimated Available Funds: $1,444,165.

Maximum Award: We will reject any application that proposes a budget exceeding a total of $1,444,165 for both Priority 1 and Priority 2 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: Entities that have experience in the operation of centers for independent living.

2. Cost Sharing or Matching: This competition does not require cost sharing or matching.

IV. Application and Submission Information

1. Address to Request Application Package: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.132B.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

3. Submission Dates and Times:

Applications Available: April 4, 2012.

Deadline for Transmittal of Applications: May 21, 2012.

Applications for grants under this competition must be submitted electronically using the Grants.gov Apply site (Grants.gov). For information (including dates and times) about how to submit your application electronically, or in paper format by mail or hand delivery if you qualify for an exception to the electronic submission requirement, please refer to section IV. 7. Other Submission Requirements in this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: July 18, 2012.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications

Applications for grants under the Centers for Independent Living—Training and Technical Assistance, CFDA number 84.132B must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Centers for Independent Living—Training and Technical Assistance at www.Grants.gov. You must search for the downloadable application package for this competition by the CFDA number. Do not include the CFDA number's alpha suffix in your search (e.g., search for 84.132, not 84.132B).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Mary Williams, U.S. Department of Education, 400 Maryland Avenue SW., Room 5144, PCP, Washington, DC 20202-2800. FAX: (202) 245-7590.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.132B), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.132B), 550 12th Street SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are in 34 CFR 366.15 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Government Performance and Results Act of 1993 (GPRA) directs Federal departments and agencies to improve the effectiveness of their programs by engaging in strategic planning, setting outcome-related goals for programs, and measuring program results against those goals.

The goal of this grant is to provide training and technical assistance with respect to planning, developing, conducting, administering, and evaluating CILs to the following eligible entities authorized under title VII of the Rehabilitation Act of 1973, as amended: Eligible agencies, CILs, and SILCs.

In annual performance reports, grantees are required to provide specific information on the number of training activities, the topics of each training program, the number and types of participants served (i.e., CILs, SILCs, or eligible agencies), and summary data from participant evaluations.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Mary Williams, U.S. Department of Education, 400 Maryland Avenue SW., room 5144, PCP, Washington, DC 20202-2800. Telephone: (202) 245-7586 or by email: mary.williams@ed.gov.

If you use a TDD or a TTY, call the FRS, toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov.

Specifically, through the advanced search feature at this site, you can limit your search to documents published by the Department.

Dated: March 30, 2012.
Alexa Posny,
Assistant Secretary for Special Education and Rehabilitative Services.

[FR Doc. 2012-8107 Filed 4-3-12; 8:45 am]

BILLING CODE 4000-01-P